DEPARTMENT OF DEFENSE

Department of the Navy

Notice of Intent To Grant Exclusive Patent License; Solar Tech, Inc.

AGENCY: Department of the Navy, DoD.

ACTION: Notice.

SUMMARY: The Department of the Navy hereby gives notice of its intent to grant to Solar Tech, Inc., a revocable, nonassignable, exclusive license to practice in the field of use of flexible solar cells for renewable energy generation for application on a building or structure in the United States, the Government-owned inventions described in U.S. Patent Application No. 14/051,134: Spray Deposition Method for Inorganic Nanocrystal Solar Cells, Navy Case No. 101,963.//U.S. Patent Application No. 14/051,226: Inorganic Nanocrystal Solar Cells, Navy Case No. 101,963.//U.S. Patent Application No. 14/256,263: Top to Bottom Solution Deposition of Inorganic Solar Modules, Navy Case No. 102,634.//U.S. Patent Application No. 15/266,878: Top to Bottom Solution Deposition of Inorganic Solar Modules, Navy Case No. 102,634 and any continuations, divisionals or re-issues thereof.

DATES: Anyone wishing to object to the grant of this license must file written objections along with supporting evidence, if any, not later than January 4, 2017.

ADDRESSES: Written objections are to be filed with the Naval Research Laboratory, Code 1004, 4555 Overlook Avenue SW., Washington, DC 20375-5320.

FOR FURTHER INFORMATION CONTACT: Charles Steenbuck, Acting Head, Technology Transfer Office, NRL Code 1004, 4555 Overlook Avenue SW., Washington, DC 20375-5320, telephone 202-767-3083. Due to U.S. Postal delays, please fax 202-404-7920, email: NRL1004@research.nrl.navy.mil or use courier delivery to expedite response.

Authority: 35 U.S.C. 207, 37 CFR part 404.

Dated: December 12, 2016.
A.N. Michols,
Lieutenant Commander, Judge Advocate General's Corps, U.S. Navy, Federal Register Liaison Officer.

[FR Doc. 2016-30586 Filed 12-19-16; 8:45 am]

BILLING CODE 3810-FF-P